COMMITTEE FOR PURCHASE FROM PEOPLE WHO ARE BLIND OR SEVERELY DISABLED

Procurement List; Additions

AGENCY: Committee for Purchase From People Who Are Blind or Severely Disabled.

ACTION: Additions to the procurement list.

SUMMARY: This action adds product and services to the Procurement List that will be furnished by nonprofit agencies employing persons who are blind or have other severe disabilities.

DATES: Effective February 26, 2017.

ADDRESSES: Committee for Purchase From People Who Are Blind or Severely Disabled, 1401 S. Clark Street, Suite 715, Arlington, Virginia 22202-4149.

FOR FURTHER INFORMATION CONTACT: Amy B. Jensen, Telephone: (703) 603-2132, Fax: (703) 603-0655, or email CMTEFedReg@AbilityOne.gov.

SUPPLEMENTARY INFORMATION:

Additions

On 12/9/2016 (81 FR 89086), 12/16/2016 (81 FR 91140-91141) and 12/23/2016 (81 FR 94340), the Committee for Purchase From People Who Are Blind or Severely Disabled published notices of proposed additions to the Procurement List.

After consideration of the material presented to it concerning capability of qualified nonprofit agencies to provide the product and services and impact of the additions on the current or most recent contractors, the Committee has determined that the product and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 8501-8506) in connection with the product and services proposed for addition to the Procurement List.

End of Certification

Accordingly, the following product and services are added to the Procurement List:

Product

NSN(s)—Product Name(s): 6840-01-523-9645—Kit, Hydration Bladder Cleaning

Mandatory for: 100% of the requirement of the U.S. Army

Mandatory Source(s) of Supply: The Lighthouse for the Blind, Inc. (Seattle Lighthouse), Seattle, WA

Contracting Activity: Army Contracting Command—Aberdeen Proving Ground, Natick Contracting Division

Distribution: C-List

Services

Service Type: Janitorial and Grounds Maintenance Service

Mandatory for: Federal Aviation Administration, Flight Inspection Field Office, 4185 Martin Luther King Jr. Drive, Atlanta, GA

Mandatory Source(s) of Supply: Bobby Dodd Institute, Inc., Atlanta, GA

Contracting Activity: Dept of Transportation, Federal Aviation Administration

Service Type: Mail and Courier Service

Mandatory for: U.S. Customs and Border Protection, New York Field Office Mail Room, One World Trade Center, 285 Fulton Street, Floors 50 and 51, New York, NY

Mandatory Source(s) of Supply: The Corporate Source, Inc., New York, NY

Contracting Activity: U.S. Customs and Border Protection, Border Enforcement Ctr Div

Service Type: Document Destruction Service

Mandatory for: U.S. Department of Labor (DOL), Office of Workers' Compensation Programs, Charles E. Bennett Federal Building, 400 West Bay Street, Suites 722, 826 and 943, Jacksonville, FL

Mandatory Source(s) of Supply: Challenge Enterprises of North Florida, Inc., Green Cove Springs, FL

Contracting Activity: Dept of Labor, Office of the Assistant Secretary for Administration and Management, OASAM-ATLANTA REG

Amy B. Jensen,
Director, Business Operations.

[FR Doc. 2017-02333 Filed 2-2-17; 8:45 am]

BILLING CODE 6353-01-P